DEPARTMENT OF LABOR

Employment And Training Administration

[TA-W-54,152]

Kwikset, a Division of Black and Decker, Bristow, OK; Notice of Termination of Investigation

Pursuant to Section 221 of the Trade Act of 1974, as amended, an investigation was initiated on January 29, 2004 in response to a petition filed by a company official on behalf of workers at Kwikset, a Division of Black and Decker, Bristow, Oklahoma.

The petitioner has requested that the petition be withdrawn. Consequently, the investigation has been terminated.

Signed at Washington, DC, this 27th day of February, 2004.
Linda G. Poole,
Certifying Officer, Division of Trade Adjustment Assistance.

[FR Doc. E4-579 Filed 3-15-04; 8:45 am]

BILLING CODE 4510-13-P